DEPARTMENT OF AGRICULTURE

Submission for OMB Review; Comment Request

April 18, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 22, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Unshu Oranges.

OMB Control Number: 0579-0173.

Summary of Collection: The Plant Protection Act (7 U.S.C. 7701-7772) authorizes the Secretary of Agriculture to restrict the importation, entry, or interstate movement of plants, plant products, and other articles to prevent the introduction or dissemination of plant pests into the United States. The regulations in “Subpart-Citrus Fruit” (7 CFR 319.28) allow the importation of Unshu oranges from certain parts of Japan into the United States under certain conditions. A foreign phytosanitary certificate must accompany the unshu oranges from the Japanese Government's Ministry of Agriculture, Forestry, and Fisheries certifying that the fruit is free of citrus canker.

Need and Use of the Information: The Animal and Plant Health Inspection (APHIS) will collect information using form PPQ 203 (Foreign Site Certificate of Inspection and/or Treatment), PPQ 587 (Application for Permit to Import Plants or Plant Products), packinghouse registration, certification for fumigation facilities, and box markings. The information from the forms and other activities will be used to certify that unshu oranges from Japan are free of citrus canker. To ensure that the oranges from Kyushu Island are not imported into citrus-producing areas of the United States such as Florida and California, boxes must be stamped or labeled with a statement specifying the State into which the oranges may be imported, and from which they are prohibited removal under a Federal quarantine. Failing to collect this information would cripple APHIS' ability to certify Unshu oranges from Japan are not carrying citrus canker.

Description of Respondents: Business or other for-profit, and foreign government.

Number of Respondents: 8.

Frequency of Responses: Reporting: On occasion.

Total Burden Hours: 851.

Animal and Plant Health Inspection Service

Title: Interstate Movement of Fruit from Hawaii.

OMB Control Number: 0579-0331.

Summary of Collection: Under the Plant Protection Act (7 U.S.C. 7701-et seq.), the Secretary of Agriculture is authorized to prohibit or restrict the importation, entry, or movement of plants and plant pests to prevent the introduction or dissemination of plant pests into the United States. The Hawaii fruit and vegetables regulations contained in 7 CFR 318.13 govern, among other things, the interstate movement of fruits and vegetables from Hawaii. These regulations are necessary to prevent the spread of plant diseases and pests that occur in Hawaii but not on the mainland United States. The Animal and Plant Health Inspection Service (APHIS) regulations allow mangosteen, dragon fruit, melon, pods of cowpea and its relatives, breadfruit, jackfruit, and fresh drumstick tree pods to be moved interstate from Hawaii under certain conditions to the mainland United States while continuing to provide protection against the spread of plant pests from Hawaii in the continental United States.

Need and Use of the Information: APHIS will collect information using PPQ 519, PPQ 530, and PPQ 540 forms to prevent the interstate spread of a number of destructive and economically damaging agricultural pests. If APHIS did not collect this information the effectiveness of APHIS' Hawaiian fruits and vegetables quarantine program would be severely compromised and could result in millions of dollars in damage to American agriculture.

Description of Respondents: Business or other for-profit.

Number of Respondents: 60.

Frequency of Responses: Reporting: On occasion.

Total Burden Hours: 1,971.

Animal Plant and Health Inspection Service

Title: Importation of Avocados from Spain under a Systems Approach.

OMB Control Number: 0579-0400.

Summary of Collection: Under the Plant Protection Act (7 U.S.C. 7701 et seq.), the Secretary of Agriculture is authorized to prohibit or restrict the importation, entry, or movement of plants, and plant pest to prevent the introduction of plant pests into the United States or their dissemination within the United States. The regulations in “Subpart—Fruits and Vegetables” (Title 7, Code of Federal Regulations (CFR) 319.56, referred to as the regulations), prohibit or restrict the importation of fruits and vegetables into the United States from certain parts of the world to prevent the introduction and dissemination of plant pests that are new to or not widely distributed with the United States. The fruits and vegetables regulations allow the importation into the continental United States of avocados from Spain, subject to a systems approach.

Need and Use of the Information: In its efforts to import Fresh Avocados from Spain under a system approach, APHIS uses the following information activities: Operational Workplan, Trust Fund Agreement, Production Site Registration, Packinghouse Registration, Phytosanitary Certificate w/additional Declaration, Box Labeling, Recordkeeping of Export Activities, Monitoring and Oversight, Investigation and Remedial Action Packinghouse/Production Site, Identifying Shipping Documents, Post-Harvest Inspection. Failure to collect the information would cripple APHIS' ability to ensure that avocados from Spain are not carrying plant pests.

Description of Respondents: Business or other for-profit; Federal Government.

Number of Respondents: 28.

Frequency of Responses: Recordkeeping; Reporting: On occasion.

Total Burden Hours: 403.

Animal Plant and Health Inspection Service

Title: Importation of Fresh Apricots from Spain under a Systems Approach.

OMB Control Number: 0579-0402.

Summary of Collection: Under the Plant Protection Act (7 U.S.C. 7701 et seq.), the Secretary of Agriculture is authorized to prohibit or restrict the importation, entry, or movement of plants, and plant pest to prevent the introduction of plant pests into the United States or their dissemination within the United States. The regulations in “Subpart—Fruits and Vegetables” (Title 7, Code of Federal Regulations (CFR) 319.56, referred to as the regulations), prohibit or restrict the importation of fruits and vegetables into the United States from certain parts of the world to prevent the introduction and dissemination of plant pests that are new to or not widely distributed within the United States. The fruits and vegetables regulations allow the importation into the continental United States of fresh apricots from Continental Spain, subject to a systems approach.

Need and Use of the Information: In its efforts to import Fresh Apricots from Continental Spain under a system approach, APHIS uses the following information activities: Operational Workplan, Trust Fund Agreement, Production Site Registration, Packinghouse Registration, Box Labeling, Production Site and Packinghouse Inspection, Certification and Accreditation of Personnel Trapping Programs and Surveys, Monitoring and Oversight of Packinghouse, Monitoring, Investigation and Remedial Action, Recordkeeping of Export Activities, Phytosanitary Inspection, Phytosanitary Certificate w/additional Declaration, Trapping Records, Identifying Shipping Documents, Cold Treatment Requirements, Certification of Cold Treatment facilities, Written Approval for Treatment Enclosure, Cold Treatment Numbered Seal, Suspension and Recertification, Cold Treatment Audit, Cold Treatment Fruit Fly Investigation and Cold Treatment Monitoring. Failure to collect the information would cripple APHIS' ability to ensure that apricots from Spain are not carrying plant pests.

Description of Respondents: Business or other for-profit; Federal Government.

Number of Respondents: 19.

Frequency of Responses: Recordkeeping; Reporting: On occasion.

Total Burden Hours: 1,835.

Ruth Brown,
Departmental Information Collection Clearance Officer.

[FR Doc. 2017-08069 Filed 4-20-17; 8:45 am]

BILLING CODE 3410-34-P